DEPARTMENT OF TRANSPORTATION

Office of the Secretary

[Docket No. OST-2006-25103]

Advisory Committee on Synthesis and Assessment Product 4.7: Impacts of Climate Variability and Change on Transportation Systems and Infrastructure—Gulf Coast Study

AGENCY: Office of the Secretary (OST), USDOT.

ACTION: Notice of intent to establish an advisory committee.

SUMMARY: Pursuant to duties imposed by law upon the Department, including the Federal Advisory Committee Act (5 U.S.C. App. 2) “FACA,” and DOT Order 1120.3B, the Office of the Secretary, U.S. Department of Transportation is establishing an advisory committee to provide technical advice and recommendations to a USDOT/USGS Research Team investigating the potential impacts of climate change on transportation. The committee will include scientists, educators, experts, and representatives of State and local governments engaged in transportation decision-making. This document describes the role of the committee as set forth in the Charter. The purpose of the notice is to invite representatives from interested sectors to participate.

FOR FURTHER INFORMATION CONTACT: Michael Savonis, Air Quality Team Leader, Federal Highway Administration Office of Natural and Human Environment, at 202-366-2080 (Michael.Savonis@dot.gov). His mailing address is at the Department of Transportation, Room 3240 HEPN-10, 400 7th Street, SW., Washington, DC 20590.

Comment Period: The comment period for this notice extends through July 7, 2006. The Department will accept comments received as a result of this notice. During the comment period, the Department will file a charter for the committee with the General Services Administration, and the convener will begin contacting potential participants.

SUPPLEMENTARY INFORMATION: The DOT Center for Climate Change and Environmental Forecasting has identified the need for improved information about climate variability and change in transportation decision making. In consultation with transportation experts, climate scientists and Federal partners, the Center developed this study to investigate the impacts of climate change and variability on transportation through a regional study of the central U.S. Gulf Coast. The study will develop decision-support knowledge and tools to assist transportation decision-makers in incorporating climate-related trend information into transportation system planning, design, engineering, and operational decisions. Implications for all transportation modes—surface, marine, and aviation—will be addressed.

This study is one of 21 Synthesis and Assessment Products of the U.S. Climate Change Science Program (CCSP). The study prospectus has been posted by the CCSP for public review in the Federal Register, and has been modified to incorporate public comments. The prospectus is available at: http://www.climatescience.gov/Library/sap/sap4-7/sap4-7prospectus-final.htm.

DOT is assisted by the U.S. Geological Survey (USGS) in this study. DOT and USGS signed a memo of understanding in January 2004 agreeing to cooperate on research that will inform decision-makers and the public about the potential effects of climate variability and change on the Nation's transportation systems. This study is the first project under that agreement.

Charter: A summary of the Charter of the Advisory Committee on Synthesis and Assessment Product 4.7: Impacts of Climate Variability and Change on Transportation Systems and Infrastructure—Gulf Coast Study is provided below.

The Secretary of Transportation, pursuant to duties imposed by law upon the Department, including the Federal Advisory Committee Act (5 U.S.C. App. 2) “FACA,” and DOT Order 1120.3B, hereby establishes the U.S. Department of Transportation's (DOT) Advisory Committee on Synthesis and Assessment Product 4.7 (S&A 4.7): Impacts of Climate Variability and Change on Transportation Systems and Infrastructure—Gulf Coast Study, Phase I.

The committee will provide technical advice and recommendations to DOT in order to develop S&A Product 4.7 for the Climate Change Science Program (CCSP). The committee will provide balanced, consensual advice on the Study design, research methodology, data sources and quality, and Study findings. The committee will function as an advisory body and will comply with the requirements of FACA in carrying out its duties.

Issued this 16th day of June, 2006, at Washington DC.
Tyler Duvall,
Assistant Secretary for Policy, U.S. Department of Transportation.

[FR Doc. E6-9860 Filed 6-21-06; 8:45 am]

BILLING CODE 4910-9X-P